ENVIRONMENTAL PROTECTION AGENCY

[ER-FRL-8590-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080408, ERP No. D-COE-E15002-GA, Fort McPherson Project, Disposal and Reuse, Implementation, in City Limits of Atlanta, Fulton County, GA.

Summary: EPA expressed environmental concerns about potential impacts to air quality, as well as water supply and water quality; and requested that the Final EIS account for drought conditions and impaired stream impacts. EPA also requested that the DOA consider encumbrances that would be protective of water quality and encourage local community participation in the implementation of the proposed action. Rating EC1.

EIS No. 20080421, ERP No. D-NSA-D11045-MD, Fort George G. Meade Utilities Upgrade Project, Proposes to Construct and Operate (1) North Utility Plant (2) South Generator Facility and (3) Central Boiler Plant, Fort George M. Meade, MD.

Summary: EPA expressed environmental concerns about impacts to forested resources on the Forest Conservation Area. Rating EC2.

EIS No. 20080451, ERP No. D-COE-K80051-CA, University of California (UC) Merced Campus and University Community Project, Development of a Major Research University, To Allow for the Discharge of Fill Material into 76.7 Acres of Wetlands, U.S. Army COE Section 404 Permit, Merced County, CA.

Summary: EPA expressed environmental concerns about the potential impacts to wetlands, groundwater supply, and air quality. EPA also recommended measures to reduce greenhouse gas emissions, and recommended additional information on cumulative and growth inducing impacts be provided in the Final EIS. Rating EC2.

EIS No. 20080480, ERP No. D-USN-C11023-NJ, Laurelwood Housing Area, Access at Naval Weapons Station Earle, Lease Agreement, Monmouth County, NJ.

Summary: EPA does not object to the proposed project. Rating LO.

EIS No. 20080481, ERP No. D-NOA-K80052-CA, Southwest Fisheries Science Center Replacement, Construction and Operation, located on University of California, San Diego Scripps Institute of Oceanography Campus, La Jolla, CA.

Summary: EPA expressed environmental concerns about air quality construction impacts, and impacts to Diegan coastal sage scrub. Rating EC2.

EIS No. 20080506, ERP No. D-USA-E11069-GA, Maneuver Center of Excellence at Fort Benning, Georgia Project, Proposed Community Services, Personnel Support, Classroom Barracks, and Dining Facilities would be Constructed in three of the four Cantonment Areas, Fort Benning, GA.

Summary: EPA expressed environmental concerns about impacts to aquatic habitats, water resources, and wetlands. Rating EC2.

EIS No. 20080440, ERP No. DA-COE-K39052-CA, Hamilton Wetland Restoration Project, Dredged Material Aquatic Transfer Facility, Implementation, Marin County, CA.

Summary: EPA expressed environmental concerns because of the lack of information regarding avoiding impacts to green sturgeon and long-fin smelt and recommended coordination with NOAA Fisheries. Additional concerns include water quality monitoring, reducing criteria pollutant emissions, and consistency with local dredge sediment disposal goals. Rating EC2.

Final EISs

EIS No. 20080456, ERP No. F-COE-D40340-PA, Southern Beltway Transportation Project, Transportation Improvement between I-79 to Mon/Fayette Expressway (PA Turnpike 43), Application for U.S. Army COE Section 404 Permit, Washington County, PA.

Summary: EPA expressed environmental concerns about potential impacts to wetlands, and recommended additional efforts to avoid, minimize, and mitigate those impacts. EPA also expressed concerns about the methodology used to identify and assess potential environmental justice issues.

EIS No. 20080522, ERP No. F-NRC-E06026-GA, GENERIC—License Renewal of Nuclear Plants, Supplement 34 to NUREG-1437, Regarding Vogtle Electric Generating Plant Units 1 and 2 (VEGP) near Waynesboro, GA.

Summary: EPA expressed environmental concerns about radiological monitoring of plant effluents, and requested appropriate storage and disposition of radioactive waste.

EIS No. 20080534, ERP No. F-IBR-L39041-WA, Yakima River Basin Water Storage Feasibility Study, Create Additional Water Storage, Benton, Yakima, Kittitas Counties, WA.

Summary: EPA does not object to the preferred alternative for the project.

EIS No. 20080478, ERP No. FS-COE-K32046-CA, Pacific Los Angeles Marine Terminal, Pier 400 Berth 408 Project, Construction and Operation of a new Marine Terminal, U.S. Army COE Section 10 and 404 Permits, Port of Los Angeles, Los Angeles County, CA.

Summary: EPA reiterated its environmental concerns about impacts to air quality, environmental justice communities, and aquatic resources. EPA recommended commitments to reduce and mitigate air quality impacts, implementation of a health impact assessment to identify appropriate mitigations for disproportionately affected neighboring communities, and mitigation for fill.

Dated: February 3, 2009.
Robert W. Hargrove,
Director, NEPA Compliance Division, Office of Federal Activities.

[FR Doc. E9-2555 Filed 2-5-09; 8:45 am]

BILLING CODE 6560-50-P